FEDERAL COMMUNICATIONS COMMISSION

47 CFR Part 73

[DA 00-2423; MM Docket No. 97-130; RM-8751]

Radio Broadcasting Services; Galesburg, IL, and Ottumwa, IA

AGENCY: Federal Communications Commission.

ACTION: Final rule.

SUMMARY: This document denies a Petition for Reconsideration filed by Galesburg Broadcasting Company directed to the Report and Order in this proceeding which upgraded Station KTWA, Ottumwa, Iowa, to specify operation on Channel 224C2. See 63 FR 57608, October 28, 1998. With this action, the proceeding is terminated.

FOR FURTHER INFORMATION CONTACT: Robert Hayne, Mass Media Bureau (202) 418-2177

SUPPLEMENTARY INFORMATION: This is a synopsis of the Commission's Memorandum Opinion and Order in MM Docket No. 97-130, adopted October 18, 2000, and released October 27, 2000. The full text of this decision is available for inspection and copying during normal business hours in the FCC Reference Information Center at Portals 11, CY-A257, 445 12th Street, SW, Washington, DC. The complete text of this decision may also be purchased from the Commission's copy contractor, International Transcription Service, Inc., (202) 857-3805, 1231 M Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-28878 Filed 11-9-00; 8:45 am]

BILLING CODE 6712-01-U